DEPARTMENT OF STATE

[Public Notice 10350]

Secretary of State's Determination Under the Frank R. Wolf International Religious Freedom Act of 2016

The Secretary of State's designation of “entities of particular concern” for religious freedom violations. Pursuant to Section 408(a) of the International Religious Freedom Act of 1998 (Pub. L. 105-292), notice is hereby given that, on March 5, 2018, the Secretary of State, under authority delegated by the President, has designated each of the following as an “entity of particular concern” under section 301 of the Frank R. Wolf International Religious Freedom Act of 2016 (Pub. L. 114-281), for having engaged in particularly severe violations of religious freedom: al-Nusra Front, al-Qa'ida in the Arabian Peninsula, al-Qa'ida, al-Shabab, Boko Haram, ISIS, ISIS-Khorasan, and the Taliban.

Daniel L. Nadel,
Director, Office of International Religious Freedom, Department of State.

[FR Doc. 2018-04718 Filed 3-8-18; 8:45 am]

BILLING CODE 4710-18-P